DEPARTMENT OF TRANSPORTATION

Pipeline and Hazardous Materials Safety Administration

49 CFR Parts 107, 171, 172, 173, 178, and 180

[Docket No. RSPA-2005-17463 (HM-220E)]

RIN 2137-AD91

Hazardous Materials: Requirements for Cylinders; Extension of Comment Period

AGENCY: Pipeline and Hazardous Materials Safety Administration (PHMSA), Department of Transportation (DOT).

ACTION: Notice of proposed rulemaking (NPRM); extension of comment period.

SUMMARY: PHMSA is extending until September 6, 2005, the period for interested persons to submit comments on the March 9, 2005 notice of proposed rulemaking. In the March 9, 2005 NPRM, we proposed to amend the Hazardous Materials Regulations to adopt standards for the design, construction, maintenance and use of cylinders and multiple-element gas containers (MEGCs) based on the standards contained in the United Nations (UN) Recommendations on the Transport of Dangerous Goods. Aligning the HMR with the UN Recommendations will promote flexibility, permit the use of technological advances for the manufacture of pressure receptacles, provide for a broader selection of pressure receptacles, reduce the need for exemptions, and facilitate international commerce in the transportation of compressed gases.

DATES: Submit comments by September 6, 2005. To the extent possible, we will consider comments received after this date in developing a final rule.

ADDRESSES: You may submit comments identified by the docket number PHMSA-2005-17463 (HM-220E) by any of the following methods:

• Federal eRulemaking Portal: http://www.regulations.gov Follow the instructions for submitting comments.

• Web site: http://dms.dot.gov Follow the instructions for submitting comments on the DOT electronic docket site.

• Fax: 1-202-493-2251.

• Mail: Docket Management System; U.S. Department of Transportation, 400 Seventh Street, SW., Nassif Building, Room PL-401, Washington, DC 20590-0001.

• Hand Delivery: To the Docket Management System; Room PL-401 on the plaza level of the Nassif Building, 400 Seventh Street, SW., Washington, DC between 9 a.m. and 5 p.m., Monday through Friday, except Federal holidays.

Instructions: You must include the agency name (Pipeline and Hazardous Materials Safety Administration) and docket number (PHMSA-2005-17463 (HM220E)) or the Regulatory Identification Number (RIN 2137-AD91) for this notice at the beginning of your comments. You should submit two copies of your comments if you submit them by mail. If you wish to receive confirmation that PHMSA received your comments, you must include a self-addressed stamped postcard. Note that all comments received will be posted without change to http://dms.dot.gov, including any personal information provided, and will be accessible to Internet users. Please see the Privacy Act section of this document.

Docket: You may view the public docket through the Internet at http://dms.dot.gov or in person at the Docket Management System office at the above address.

for further information contact: Ms. Hattie L. Mitchell, Office of Hazardous Materials Standards, (202) 366-8553, Pipeline and Hazardous Materials Safety Administration, U.S. Department of Transportation, 400 Seventh Street SW., Washington, DC 20590-0001.

supplementary information:

I. Background

On March 9, 2005, the Pipeline and Hazardous Materials Safety Administration (PHMSA, we) published a notice of proposed rulemaking (NPRM) under Docket No. PHMSA-2005-17463 (HM-220E) (70 FR 11768). In the NPRM, we proposed to amend the Hazardous Materials Regulations (HMR; 49 CFR Parts 171-180) to adopt standards for the design, construction, maintenance and use of cylinders and multiple-element gas containers (MEGCs) based on the standards contained in the United Nations (UN) Recommendations on the Transport of Dangerous Goods. Aligning the HMR with the UN Recommendations will promote flexibility, permit the use of technological advances for the manufacture of pressure receptacles, provide for a broader selection of pressure receptacles, reduce the need for exemptions, and facilitate international commerce in the transportation of compressed gases. We proposed to incorporate by reference 21 new standards developed by the International Standards Organization (ISO) that contain the design, construction, testing and requalification requirements for the new UN cylinders and MEGCs. The 120-day comment period for the proposed rule was to end on July 7, 2005.

On June 10, 2005, Mr. Lawrence W. Bierlein filed comments to the docket on behalf of Arrowhead Industrial Services, Inc., requesting an extension of the comment period of an additional 90 days, until October 6, 2005. Arrowhead stated that after ordering the ISO standards, the comment period remaining provides insufficient time for them to complete their analysis, draft comments, and coordinate with associations and others involved in the process.

We agree the comment period should be extended to allow additional time for commenters to address the proposals. Therefore, we are allowing an additional 60 days for submission of comments, until September 6, 2005. We will consider comments received after this date to the extent possible in developing a final rule.

II. Regulatory Notice

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Issued in Washington, DC, on June 17, 2005, under the authority delegated in 49 CFR Part 106.
Robert A. McGuire,
Associate Administrator for Hazardous Materials Safety.

[FR Doc. 05-12459 Filed 6-22-05; 8:45 am]

BILLING CODE 4910-60-M